DEPARTMENT OF JUSTICE

Notice of Lodging of Consent Decree Under the Clean Air Act

On January 28, 2020, the Department of Justice lodged a proposed Consent Decree with the United States District Court for the Southern District of Ohio in United States v. Dynegy Zimmer LLC, Civil Action No. 1:20-cv-00071.

The Consent Decree settles claims brought by the United States for violations of the Clean Air Act, 42 U.S.C. 7401 et seq. in connection with a coal fired power plant owned and operated by Defendant in Moscow, Ohio. The Consent Decree requires the Defendant to undertake measures to address CAA violations and prevent future CAA violations. Defendant will also implement a mitigation project and a supplemental environmental project. Under the Consent Decree, Defendant will pay a civil penalty of $600,000.

The publication of this notice opens a period for public comment on the proposed Consent Decree. Comments should be addressed to the Assistant Attorney General, Environment and Natural Resources Division, and should refer to United States v. Dynegy Zimmer LLC, D.J. Ref. No. 90-5-2-1-11425. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $21.25 (25 cents per page reproduction cost) payable to the United States Treasury.

Jeffrey Sands,
Assistant Section Chief, Environmental Enforcement Section, Environment and Natural Resources Division.

[FR Doc. 2020-02738 Filed 2-11-20; 8:45 am]

BILLING CODE 4410-15-P